ENVIRONMENTAL PROTECTION AGENCY

[FRL-8472-3]

Public Water System Supervision Program Variance and Exemption Review for the State of Colorado

AGENCY: Environmental Protection Agency.

ACTION: Notice.

SUMMARY: The Environmental Protection Agency (EPA) Region 8 is conducting a statutory review of variances and exemptions issued by the State of Colorado under the Safe Drinking Water Act (SDWA) Public Water System Supervision (PWSS) program. The SDWA, 42 U.S.C. 300 et seq., requires that EPA periodically review variances and exemptions issued by States with primary enforcement authority to determine compliance with requirements of the Statute. 42 U.S.C. 300g-4(e)(8); 42 U.S.C. 300g-5(d). In accordance with these provisions in the SDWA and its accompanying regulations at 40 CFR 142.22, EPA is giving public notice that the EPA Region 8 will be conducting a review of the variances and exemptions issued by the State of Colorado to Public Water Systems under its jurisdiction. The review will be conducted at Colorado Department of Public Health and Environment on September 25, 2007.

The public is invited to submit comments on any or all variances and/or exemptions issued by the State of Colorado, and on the need for continuing them, by October 15, 2007. Results of this review will be published in the Federal Register.

ADDRESSES: Comments on variances and exemptions issued by the State of Colorado should be addressed to: Robert E. Roberts, Regional Administrator, c/o Jack Theis (8P-W-DW), U.S. EPA, Region 8, 1595 Wynkoop St, Denver, CO 80202-1129. All data and other information with respect to the variances and exemptions issued by the State of Colorado are located at the Colorado Department of Public Health and Environment, 4300 Cherry Creek Drive South, Denver, Colorado 80246-1530.

FOR FURTHER INFORMATION CONTACT: Jack Theis at 303-312-6347 or Theis.Jack @epa.gov.

SUPPLEMENTARY INFORMATION: Colorado has an EPA approved program for assuming primary enforcement authority for the PWSS program, pursuant to section 1413 of the Safe Drinking Water Act (SDWA), 42 U.S.C. 300g-2 and 40 CFR Part 142.

A. Why do States issue variances and exemptions?

States with primary enforcement authority are authorized to grant variances and exemptions from National Primary Drinking Water Regulations due to particular situations with specific public water systems providing these variances and exemptions meet the requirements of the SWDA Section 1415 and 1416 and are protective of public health.

B. Why is a review of the variances and exemption necessary?

Colorado is authorized to grant variances and exemptions to drinking water systems in accordance with the SDWA. The SDWA requires that EPA periodically review State issued variances and exemptions to determine compliance with the Statute. 42 U.S.C. 300g-4(e)(8); 42 U.S.C.300g-5(d).

Dated: September 14, 2007.
Kerrigan G. Clough,
Deputy Regional Administrator, Region 8.

[FR Doc. E7-18843 Filed 9-24-07; 8:45 am]

BILLING CODE 6560-50-P